DEPARTMENT OF AGRICULTURE

Federal Crop Insurance Corporation

Notice of Request for Extension of a Currently Approved Information Collection

AGENCY: Federal Crop Insurance Corporation, USDA.

ACTION: Extension of approval of an information collection; comment request.

SUMMARY: This notice announces a public comment period on the information collection requests (ICRs) associated with the Multiple Peril Crop Insurance.

DATES: Written comments on this notice will be accepted until close of business February 19, 2008.

ADDRESSES: Interested persons are invited to submit written comments to Timothy Hoffmann, Director, Product Administration and Standards Division, Risk Management Agency, United States Department of Agriculture, Beacon Facility—Mail Stop 0812, P.O. Box 419205, Kansas City, MO 64141-6205. Comments titled “Information Collection OMB 0563-0053” may be sent via the Internet to: DirectorPDD@rma.usda.gov.

FOR FURTHER INFORMATION CONTACT: Erin Albright, Risk Management Specialist, Federal Crop Insurance Corporation, at the address listed above, telephone (816) 926-7730.

SUPPLEMENTARY INFORMATION: The collections of information for this rule revise the Multiple Peril Crop Insurance Collections of Information 0563-0053, which expire June 30, 2008.

Title: Multiple Peril Crop Insurance.

OMB Number: 0563-0053.

Expiration Date of Approval: June 30, 2008.

Type of Request: Extension of a currently approved information collection.

Abstract: The information collection requirements for this renewal package are necessary for administering the crop insurance program. Producers are required to report specific data when they apply for crop insurance and report acreage, yields and notices of loss. Insurance companies accept applications; issue policies; establish and provide insurance coverage; compute liability, premium, subsidies, and losses; indemnify producers; and report specific data to FCIC as required in Manual 13. Insurance agents market crop and livestock insurance and service the producer. The following commodities (and Adjusted Gross Revenue (AGR), Adjusted Gross Revenue Lite (AGR-Lite), and Nutrient BMP) are included in this information collection package: almonds, apples, avocados, avocado and mango trees, barley, dry beans, beans, blackberries, blueberries, buckwheat, cabbage, canola/rapeseed, cattle, cherries, citrus fruit, citrus trees, clams, corn, sweet corn, cotton, cranberries, figs, flax, forage production, forage seed, forage seeding, grain sorghum, grapes, Hawaiian tropical fruit and tree, hybrid seed corn, hybrid sorghum seed, lentils, macadamia nuts, macadamia trees, millet, mint, mustard, nursery, oats, onions, pasture, peaches, peanuts, pears, dry peas, green peas, pecans, chili peppers, peppers, plums, popcorn, potatoes, prunes, raisins, rangeland, raspberries, rice, wild rice, rye, safflowers, soybeans, stonefruit, strawberries, sugar beets, sugar cane, sunflowers, sweet potatoes, swine, tobacco, tomatoes, walnuts, and wheat.

FCIC is requesting the Office of Management and Budget (OMB) to extend the approval of this information collection for an additional 3 years.

The purpose of this notice is to solicit comments from the public concerning this information collection. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond (such as through the use of appropriate automated, electronic, mechanical, or other forms of information technology, e.g., permitting electronic submission of responses).

Estimate of Burden: The public reporting burden for this collection of information are estimated to average 0.4 of an hour per response.

Respondents/Affected Entities: Producers and insurance companies reinsured by FCIC.

Estimated Annual Number of Respondents: 1,248,281.

Estimated Annual Number of Responses Per Respondent: 3.6.

Estimated Annual Number of Responses: 4,551,705.

Estimated Total Annual Burden on Respondents: 1,866,457.

All responses to this notice will be summarized and included in the request for OMB approval. All comments will also become a matter of public record.

Signed in Washington, DC, on December 12, 2007.
Eldon Gould,
Manager, Federal Crop Insurance Corporation.

[FR Doc. E7-24444 Filed 12-17-07; 8:45 am]

BILLING CODE 3410-08-P